DEPARTMENT OF COMMERCE

National Institute of Standards and Technology

Announcement of Public Meeting of the National Conference on Weights and Measures

AGENCY: National Institute of Standards and Technology.

ACTION: Announcement of public meeting of the National Conference on Weights and Measures.

SUMMARY: Notice is hereby given that the Interim Meeting of the National Conference on Weights and Measures will be held January 23 through 26, 2004, at the Fairmont Miramar Hotel, Santa Monica, CA. This meeting is open to the public. Meeting registration and hotel information can be found on the NCWM Web site (http://www.ncwm.net). The National Conference on Weights and Measures is an organization of weights and measures enforcement officials of the States, counties, and cities of the United States, and private sector representatives. The interim meeting of the Conference brings together enforcement officials, other government officials, and representatives of business, industry, trade associations, and consumer organizations to discuss subjects related to the field of weights and measures technology and administration. Pursuant to (15 U.S.C. 272(b)(6)), the National Institute of Standards and Technology supports the National Conference on Weights and Measures in order to promote uniformity among the States in the complexity of laws, regulations, methods, and testing equipment that comprises regulatory control by the States of commercial weighing and measuring.

DATES: January 23-26, 2004.

ADDRESSES: The Fairmont Miramar Hotel, Santa Monica, CA.

SUPPLEMENTARY INFORMATION: The National Conference on Weights and Measures (NCWM) has the following topics scheduled for discussion and development at the Interim Meeting in January. This is a work session of the NCWM Committees to finalize recommendations for items that are considered sufficiently developed for a vote in July 2005 or to modify or withdraw from committee agendas those items that need additional development or are not considered adequately developed for vote in July. The NCWM will have a special joint session of the Laws and Regulations Committee and the Specifications and Tolerances Committee to receive input on the temperature compensation of refined petroleum products. The temperature compensation issues have been on the agenda for several years, but there hasn't been a clear majority position to resolve the specific items before the NCWM. Please see NCWM Publication 15, which is available on the NIST Web site (http://www.nist.gov/owm) and the NCWM Web site (http://www.ncwm.net) for additional information. Written comments may be submitted to the Chief, NIST Weights and Measures Division, 100 Bureau Drive, Stop 2600, Gaithersburg, MD 20899-2600, or via e-mail at owm@nist.gov.

The following provides a brief description of the agenda items. At this stage, the items are proposals. The Committees will decide which items will move forward as recommendations for vote in July 2005, which ones will be withdrawn, and which ones will be information items for further development. The NCWM Specifications and Tolerances Committee addresses proposed changes or amendments to NIST Handbook 44, “Specifications, Tolerances, and other Technical Requirements for Weighing and Measuring Devices.” The items address commercial weighing and measuring devices that may be used in commercial measurement applications, that is, devices that are normally used to buy from or sell to the general public or used for determining the quantity of product sold among businesses. Issues on the agenda of the NCWM Laws and Regulations Committee relate to NIST Handbook 130, “Uniform Laws and Regulations in the area of legal metrology and engine fuel quality,” and NIST Handbook 133, “Checking the Net Contents of Packaged Goods.”

NCWM Specifications and Tolerances Committee

General Code

Item 310-1: The issue addresses an extensive series of marking requirements for commercial measurement systems. In particular, the topic examines which marking requirements should apply to electronic instruments that are not specifically designed for weighing or measuring systems, but which increasingly are being used in commercial weighing and measuring systems.

Item 310-2: Clarify the tolerances to be applied during the type evaluation of weighing and measuring instruments, that is, whether or not special test tolerances should apply to instruments undergoing type evaluation.

Scales Code

Item 320-1: Clarify the requirement's original intent for marking zero indications on scales and point-of-sale systems, where a zero-balance condition is represented by other than a digital zero indication.

Item 320-2: The proposal is to drop the “#” mark as a symbol for “pound” on a receipt printed by a point-of-sale system, i.e., a cash register interfaced with a scale.

Item 320-3: Add new device-specific requirements to the Scales Code to address the proper interface of computing scales with electronic cash registers (ECR).

Item 320-4: Change the zero-tracking requirement (the amount of weight that can automatically be rezeroed) for class III scales to be consistent with the international standard recommended by the International Organization of Legal Metrology (OIML).

Item 320-5: Provide guidelines on the placement of the required nominal capacity and scale division information on scales.

Item 320-6: Delete the definitions for bench and counter scales, because current scale designs no longer distinguish between these two types of scales. Additionally, the proposal is to change the test load and test positions for the shift test for scales, particularly for small capacity scales.

Item 320-7: The proposal is to drop the fourth tolerance step for Class III and Class IIII scales to align the tolerances with the OIML standard. This is a significant issue because there are many scales to which these tolerances apply.

Item 320-8: Align the U.S. requirements for the time dependence (creep) test for scales and load cells with the OIML requirements.

Item 320-9: Include in NIST Handbook 44 the list of accepted international symbols for marking operational controls, indications and features on scales.

Belt-Conveyor Scale Systems

Item 321-1: Add a requirement for users of belt-conveyor scales to prevent the reweighing of material that has already been weighed, but which may have fallen off the belt-conveyor before delivery to the customer. Additionally, another user requirement would be changed to require that records be maintained for 3 years regarding the calibration and adjustment of belt-conveyor scales.

Automatic Bulk Weighing Systems

Item 322-1: The proposal is to specify the tolerance for automatic bulk weighing systems in terms of scale divisions rather than as a percentage of the test load. The concern is that, based upon the amount of test weights that are normally available to test these weighing systems, this may result an tolerance that is effectively larger than what is currently being applied to these scales.

Liquid-Measuring Devices

Item 330-1: This item is to address “computer jump” on gasoline and diesel fuel dispensers as the price of gasoline and diesel fuel continues to increase.

Item 330-2: Change the value of the rated flow rate for retail motor fuel (gasoline and diesel fuel) dispensers at which special tests are to be conducted at low flow rates to be consistent with other requirements in the code. The proposal also clarifies that dispensers are not to operate at flow rates below the rated minimum flow rate stated by the meter manufacturer.

Vehicle-Tank Meters

Item 331-1: Add a number of specifications, test notes, and tolerances to recognize automatic temperature compensation on vehicle-tank meters and specify the tests to be conducted on meters equipped with automatic temperature compensation. This subject is the focus of a special joint session of the Laws and Regulations Committee and the Specifications and Tolerances Committee to receive input on the temperature compensation of refined petroleum products

Item 331-2: Clarify that the unit price on a vehicle-tank meter does not have to be displayed continuously on a price-computing meter register. However, the unit price must be clearly displayed and understood by the operator and an observer of the delivery.

Item 331-3: The proposal is to require an automatic zero-set-back interlock on vehicle-tank meters to force meters to be set back to zero for each delivery. Complications that must be considered are multiple deliveries in one location to a single customer and deliveries for aircraft refueling.

Item 331-4: Modify the “split-compartment” test for vehicle-tank meters and rename the test as a “product depletion” test. A specific tolerance is specified for the performance of the vapor (air) eliminator system.

Other Items

Item 360-1: Add a tentative code for livestock, meat, and poultry evaluation systems used to measure the fat content on carcasses and other quality characteristics that affect the price paid for the commodities. The proposed tentative code is based upon four recently completed ASTM standards that have been developed over the past three years.

Item 360-2: Amend the Fundamental Considerations in Handbook 44 to recognize additional standards that are acceptable for field standards and update the terminology and references for field standards, reference and secondary standards, corrections, and uncertainties. These changes are related to items 221-1 and 234-1 on the agenda of the Laws and Regulations Committee.

Item 360-3: Contact information is provided for current OIML activities regarding the development of international legal metrology standards.

Item 360-4: The proposal is to add the OIML terminology to Handbook 44 for features and operational controls on commercial weighing and measuring devices.

Item 360-5: Two issues are identified for continued development. The first is General Code paragraph G-S.5.6.1. Recorded Representation of Metric Units on Equipment with Limited Character Sets. The second is Scales Code Table 4. Minimum Test Weights and Test Loads; Device Capacity 500,000 lb.

NCWM Laws and Regulations Committee

Item 221-1: Amend the Uniform Weights and Measures Law to modify definitions for different types of physical standards to be consistent with current international terminology, add definitions regarding traceability, accreditation, calibration, uncertainty, and other technical terms to recognize current roles of accredited laboratories. Additionally, amendments to the Uniform Weights and Measures Law are proposed to allow the recognition of calibrations performed by accredited laboratories and to broaden references to documentary standards to allow the recognition and use of documentary standards developed by other national and international standards developing organizations.

Item 232-1: Amend the Uniform Method of Sale Regulation to address the temperature compensation of refined petroleum products to the volume at 15 °C (60 °F) for deliveries from wholesale through retail (service station) transactions. This subject is the focus of a special joint session of the Laws and Regulations Committee and the Specifications and Tolerances Committee to receive input on the temperature compensation of refined petroleum products.

Item 234-1: Amend the Uniform Regulation for the Voluntary Registration of Servicepersons and Service Agencies regarding the references to the physical standards that are used and to expand the reference to national and international documentary standards that may be acceptable for the physical standards used by these service agencies. The proposed changes would also broaden the range of laboratories that could verify compliance of the physical standards to these documentary standards.

Item 237-1: This item examines the identification and labeling of biodiesel fuels and blends at the service station for sale to the general public.

Item 237-2: This item is to modify the lubricity requirement for premium diesel fuel to be current with the evolving ASTM standard for this product.

Item 260-1: The item is to reexamine proposed changes to the maximum allowable variations for meat and poultry products subject to USDA regulations.

Item 260-2: This proposal seeks to have the maximum allowable variations apply to packages of wood shavings.

Item 260-3: This item proposes that a work group be established to examine all of the maximum allowable variations stated in NIST Handbook 133 to see if they should be modified based upon current packaging methods and international standards for these products.

Item 270-1: Since more meat and poultry products are being packaged in centralized locations and then distributed to stores for sale, the proposal explores if tare weights should be required to be printed on the individual “case-ready” packages.

FOR FURTHER INFORMATION CONTACT: Henry V. Oppermann, Chief, NIST, Weights and Measures Division, 100 Bureau Drive, Stop 2600, Gaithersburg, MD 20899-2600. Telephone (301) 975-4004, or email: owm@nist.gov.

Dated: December 17, 2004.
Hratch G. Semerjian,
Acting Director.

[FR Doc. 04-28350 Filed 12-27-04; 8:45 am]

BILLING CODE 3510-13-P